DEPARTMENT OF ENERGY

Federal Energy Regulatory Commission

[Docket No. RP01-345-001]

Columbia Gas Transmission Corp.; Notice of Compliance Filing

May 15, 2001.

Take notice that on May 9, 2001, Columbia Gas Transmission Corporation (Columbia) tendered for filing as part of its FERC Gas Tariff, Second Revised Volume No. 1, the following revised tariff sheets, bearing a proposed effective date of May 1, 2001:

Substitute Second Revised Sheet 307A

Third Revised Sheet No. 330

Substitute Tenth Revised Sheet No. 456

On March 30, 2001, Columbia filed tariff sheets in Docket No. RP01-345-000 to conform its Tariff to Version 1.4 of the consensus industry standards, promulgated by the Gas Industry Standards Board (GISB). The Commission directed that pipelines implement these standards by filing revised tariff sheets not less than 30 days prior to the May 1, 2001 implementation date required by Order No. 587-M. By order dated April 26, 2001, the Commission accepted the filed tariff sheets with several exceptions and required Columbia to revise its Tariff and incorporate the changes within 15 days of the date of the Order. See Standards for Business Practices of Interstate Natural Gas Pipelines, 95 FERC 61,127 (April 26, 2001).

Columbia's filed changes are as follows:

(1) Standard 0.3.1 is incorporated by reference on Substitute Tenth Revised Sheet No. 456.

(2) Standards 1.3.51, 5.3.34, 5.3.35, and 5.3.36 are deleted from Substitute Tenth Revised Sheet No. 456 since these standards are incorporated verbatim on (i) Substitute Second Revised Sheet No. 307A filed herein; and (ii) Third Revised Sheet No. 371, Second Revised Sheet No. 380 and Second Revised Sheet No. 428 previously accepted by the Commission in its April 26 Order.

(3) Standards 3.3.17 and 3.3.18 are incorporated verbatim on Third Revised Sheet No. 330 filed herein.

Columbia states that copies of its filing have been mailed to all firm customers, interruptible customers, and affected state commissions.

Any person desiring to be heard or to protest said filing should file a motion to intervene or a protest with the Federal Energy Regulatory Commission, 888 First Street, NE., Washington DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-12657 Filed 5-18-01; 8:45 am]

BILLING CODE 6717-01-M